DEPARTMENT OF AGRICULTURE

Rural Utilities Service

Tri-State Generation and Transmission Association, Inc.; Notice of Availability of a Draft Environmental Impact Statement

AGENCY: Rural Utilities Service, USDA.

ACTION: Notice of availability of a draft environmental impact statement.

SUMMARY: Notice is hereby given that the U.S. Forest Service (FS) has released for public review and comment a Draft Environmental Impact Statement (DEIS) for the Nucla—Telluride 115 kV Transmission Line Project. The project is proposed by Tri-State Generation and Transmission Association, Inc. (Tri-State), of Westminster, Colorado. The FS is the lead Federal agency in the environmental review process. The Rural Utilities Service (RUS) and the Bureau of Land Management (BLM) are serving as cooperating agencies.

FOR FURTHER INFORMATION CONTACT: Dennis E. Rankin, Environmental Protection Specialist, RUS, Engineering and Environmental Staff, Stop 1571, 1400 Independence Avenue, SW, Washington, DC 20250-1571; Steve Wells, FS, Norwood Ranger District, P.O. Box 388, Norwood, Colorado 81423; and Teresa Pfifer, BLM, Uncompahgre Field Office, 2465 South Townsend Avenue, Montrose, Colorado 81401.

SUPPLEMENTARY INFORMATION: Tri-State has proposed a 115 kV transmission line in order to improve the reliability of power to Telluride and other surrounding communities, as well as increase the capacity of the regional transmission grid to transfer bulk power through southwestern Colorado. The 115 kV transmission line would replace and potentially relocate an existing 69 kV line that is owned and operated by San Miguel Power Association.

The DEIS analyzes the impacts of a 115kV transmission line that has been proposed by Tri-State between the Nucla Substation in Montrose County, Colorado and either the Telluride or Sunshine Substations in San Miguel County, Colorado. The DEIS evaluates a number of routing alternatives and related system improvements between these substation connections. The DEIS also analyzes other energy options including distributed generation.

The Federal agencies preferred alternative is a 115 kV transmission line project using the Nucla—Norwood Central Alternative and the Norwood—Sunshine Alternative corridors. FS, BLM, and RUS will issue final decisions regarding Tri-State's proposal at the conclusion of the environmental review process. Concurrent with the Federal review process, San Miguel and Montrose Counties will consider Tri-State's Special Use Permit applications.

Copies of the DEIS are available for review at the following public libraries: Norwood Public Library, Telluride Public Library, Montrose Public Library, Nucla Public Library, and Naturita Public Library. Additional copies of the DEIS are also available at the FS-Norwood Ranger District, the FS-Supervisor's Office in Delta, and at the BLM Uncompahgre Field Office in Montrose.

Public comments concerning the adequacy and accuracy of the DEIS will be accepted during a comment period ending May 31, 2001. Comments should be sent to Steve Wells, Forest Service at the address provided above.

Dated: April 10, 2001.
Blaine D. Stockton,
Assistant Administrator, Electric Program, Rural Utilities Service.

[FR Doc. 01-9175 Filed 4-12-01; 8:45 am]

BILLING CODE 3410-15-P